DEPARTMENT OF LABOR

Employment and Training Administration

Proposed Information Collection Request; Submitted for Public Comment and Recommendations

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506 (c) (2) (A)]. This program helps to ensure that requested data can be provided in the desired format, reporting burden (time and financial resources) is minimized, collection instruments are clearly understood, and the impact of collection requirements on respondents can be properly assessed. Currently, the Employment and Training Administration is soliciting comments concerning the proposed collection of data from organizations that have been awarded H-1B Technical Skills Training Grants by the Employment and Training Administration.

DATES: Submit written comments on or before March 15, 2004.

ADDRESSES: Send comments to: Mindy Feldbaum, Federal Program Officer, Office of Workforce Investment, Employment and Training Administration, United States Department of Labor, 200 Constitution Ave. NW., Room N4665, Washington DC 20210, telephone 202-693-3382 (this is not a toll-free number), Internet address: feldbaum.mindy@dol.gov and fax: 202-693-2982.

SUPPLEMENTARY INFORMATION:

I. Background

The DOL/ETA intends to use the requested data and information to monitor adherence to the grant award agreement provisions, assess progress of the grantees in meeting program goals and objectives and amass data sufficient to analyze outcomes and the overall effectiveness of the H-1B Technical Skills Training Grants program as required by the American Competitiveness in the Twenty-first Century Act of 2000 (AC-21) and 29 CFR 95.51. The information and data will also be used to respond to inquiries regarding the H-1B Grants program that come from the Executive branch, Congress, the General Accounting Office, the media and others. To date, the DOL/ETA has awarded 129 grants under the H-1B Technical Skills Training Grants program.

II. Desired Focus of Comments

The Department of Labor is particularly interested in comments which:

• Evaluate whether the proposed collection of information is necessary for the proposed performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) may be obtained by contacting the office listed in the Addressee section of this notice.

III. Current Actions

Type of Review: Existing collection in use without an OMB control number.

Agency: Employment and Training Administration.

Title: H-1B Technical Skills Training Grants Program Reporting Requirements.

Recordkeeping: H-1B Technical Skills Training Grantees are required to retain records in accordance with their respective grant award agreements.

Affected Public: Organizations awarded grants under ETA's H-1B Technical Skills Training Grants Program.

Form: The proposed collection of information will use ETA's Web-based Enterprise Information Management System (EIMS) to collect quarterly requested information. The final report will be submitted in hard copy. The information to be collected is shown on the ICR.

Total Respondents: Organizations that have received H-1B grant awards under the provisions of the American Competitiveness in the Twenty-first Century Act (AC-21) are the respondents. To date, 86 awards have been made under AC-21.

Frequency: Quarterly, for the progress report; once upon project completion for the final project report.

Total Responses: Estimated at between 332 and 484 reports annually (number of respondents multiplied by the number of reports submitted annually).

Average time per response: 12 hours for the quarterly report; 40 hours for the one-time final report.

Estimated Total Burden Hours: see Burden Table below.

Burden Hour Table for H-1B.—Technical Skills Training Grant Program Information Collection Request
[DOL/ETA Reporting Burden for H-1B Technical Skills Training Grant Performance Reporting]
| FY 2004 | FY 2005 | FY 2006
Number of Performance reports per grantee per quarter | 1 | 1 | 1
Number of Performance reports per grantee per year | 2 | 4 | 4
Average number of hours required for Performance reporting per grantee per quarter per report (see Note 1). | 12 | 12 | 12
Average number of hours required for Performance reporting per grantee per year | 24 | 48 | 48
Number of grantees submitting Performance reports (See Note 2). | 93 | 121 | 83
Average number of hours required for reporting burden per year | 2,232 | 5,808 | 3,984
SF269 Financial Status Report burden hours (OMB Control 0348-0043) @ 30 minutes per grantee per quarter | 186 | 242 | 166
Grantee Final Project Report burden hours @ 40 hours per grantee (see Note 3) times # of grants ending in each year | 80 | 1,520 | 520
TOTAL BURDEN HOURS | 2,498 | 7,570 | 4,670
Total Performance reporting, SF269 and Final Report burden cost @ $15.57 per hour (see Note 4). | $38,893.86 | $117,864.90 | $72,711.90
Notes:
1. The estimate of hourly reporting burden per quarter for each grantee includes the time spent by the grantee to collect necessary information and to enter the information into ETA's EIMS.
2. Number of grantees varies during the course of the year. Some grants are completed and others will start during any given year. However, each grantee will be required to submit one progress report per quarter. The total number of reports submitted during a year thus varies depending on the number of operational grants in a particular year.
3. A final report is required once from each grantee. On average, the final report burden is estimated at 40 hours, including gathering of project statistics from existing data sources and writing and editing the report.
4. The total burden cost was based upon the median hourly wage for an Administrative Assistant/Executive Assistant using data for year 2001 (latest year for which data are available) from DOL's O*Net system.

Comments submitted in response to this notice will be submitted and/or included in the request for Office of Management and Budget approval of the information collection request; they will become a part of the public record.

Dated: January 7, 2004.
Emily Stover DeRocco,
Assistant Secretary, Employment and Training, Department of Labor.

[FR Doc. 04-785 Filed 1-13-04; 8:45 am]

BILLING CODE 4510-30-P